DEPARTMENT OF ENERGY

Federal Energy Regulatory Commission

Docket No. EC99-101-003]

Northern States Power Company (Minnesota) on Behalf of Itself and Its Public Utility Subsidiaries and New Century Energies, Inc. on Behalf of Its Public Utility Subsidiaries; Notice of Filing

February 13, 2001.

Take notice that on January 16, 2001, Southwestern Public Service Company, an Excel Energy Operating Company, tendered for filing with the Federal Energy Regulatory Commission (Commission), a request for approval to fulfill its Regional Transmission Organization (RTO) commitment by joining the Southwest Power Pool rather than the Midwest Independent Transmission System Operator, Inc.

Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions and protests should be filed on or before March 2, 2001. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance). Comments and protests may be filed electronically via the internet in lieu of paper. See, 18 CFR 384.2001(a)(1)(iii) and the instructions on the Commission's web site at http://www.ferc.fed.us/efi/doorbell.htm.

Linwood A. Watson, Jr.,
Acting Secretary.

[FR Doc. 01-4206 Filed 2-20-01; 8:45 am]

BILLING CODE 6717-01-M